FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 4284N.

Name: Cargo, Inc.

Address: 220 Thorndale Avenue, Bensenville, IL 60106.

Date Revoked: September 19, 2002.

Reason: Failed to maintain a valid bond.

License Number: 4156N.

Name: Gulf Eagle USA, Inc. dba Gulf Eagle Ocean Line.

Address: 500 McCormick Drive, Suite G & H, Glen Burnie, MD 21061.

Date Revoked: July 18, 2002.

Reason: Failed to maintain a valid bond.

License Number: 17413NF.

Name: Venture Transport, Inc.

Address: 314 North Post Oak Lane, Houston, TX 77024.

Date Revoked: September 4, 2002.

Reason: Failed to maintain valid bonds.

Sandra L. Kusumoto,
Director, Bureau of Consumer Complaints and Licensing.

[FR Doc. 02-26454 Filed 10-16-02; 8:45 am]

BILLING CODE 6730-01-P